DEPARTMENT OF COMMERCE

National Oceanic and Atmospheric Administration

RIN 0648-XG488

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit Application from the University of Maryland contains all the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before October 9, 2018.

ADDRESSES: You may submit written comments by any of the following methods:

• Email: NMFS.GAR.EFP@noaa.gov. Include in the subject line “Comments on UMD Jonah crab EFP.”

• Mail: Michael Pentony, Regional Administrator, NMFS, Greater Atlantic Regional Fisheries Office, 55 Great Republic Drive, Gloucester, MA 01930. Mark the outside of the envelope “Comments on UMD Jonah Crab EFP.”

FOR FURTHER INFORMATION CONTACT: Laura Hansen, NOAA Affiliate, (978) 281-9225.

SUPPLEMENTARY INFORMATION: The University of Maryland (UMD) submitted a complete application for an Exempted Fishing Permit (EFP) on September 5, 2018, to conduct fishing activities that the regulations would otherwise restrict. This project is intended to gain a better understanding of Jonah crab male size at maturity. This study is funded through the NOAA Educational Partnership Program's Living Marine Resources Cooperative Science Center. UMD is requesting exemptions from the following Federal lobster regulation:

1. Gear specification requirements in 50 CFR 697.21(c) to allow for closed escape vents;

If the EFP is approved, this study would take place from November 2018 through November 2019. The participating vessel would deploy no more than eight ventless traps at one time in Lobster Conservation Management Area (LCMA) 2. Maps depicting these areas are available on request. Researchers will deploy traps in trawls, compliant with the Atlantic Large Whale Take Reduction Plan. Modifications to a standard lobster trap would include a closed escape vent, a smaller wire mesh size, and a smaller entrance head. Each experimental trap will have the participating fisherman's identification attached. Investigators intend to collect up to 150 crabs. Jonah crab retrieved from the modified traps would be collected and sent to the UMD lab for analysis. The exemption is needed to ensure investigators obtain a broad size distribution of Jonah crabs.

Currently, there are no Federal regulations for Jonah crab. We are preparing a proposed rule to establish Federal regulations for the Jonah crab fishery which will likely include a minimum size. We anticipate that final rulemaking will occur before this project is complete. To ensure that there is no disruption to research activities, we intend to modify the exemptions granted to this study to include exemption from the minimum size so that crabs smaller than the minimum size can be analyzed. We would solicit comment on this additional exemption in the Jonah Crab Fishery Management Plan.

If approved, the applicant may request minor modifications and extensions to the EFP throughout the year. We may grant EFP modifications and extensions without further notice if they are deemed essential to facilitate completion of the proposed research and have minimal impacts that do not change the scope or impact of the initially approved EFP request. The EFP would prohibit any fishing activity conducted outside the scope of the exempted fishing activities.

Authority: 16 U.S.C. 1801 et seq.

Dated: September 19, 2018.
Margo B. Schulze-Haugen,
Acting Director, Office of Sustainable Fisheries, National Marine Fisheries Service.

[FR Doc. 2018-20711 Filed 9-21-18; 8:45 am]

BILLING CODE 3510-22-P